DEPARTMENT OF LABOR

Employment and Training Administration

[TA-W-81,905]

Welded Tube—Berkeley Including On-Site Leased Workers From Snelling, Aerotek and Express Personnel Services, Huger, SC; Amended Certification Regarding Eligibility To Apply for Worker Adjustment Assistance

In accordance with Section 223 of the Trade Act of 1974, as amended (“Act”), 19 U.S.C. 2273, the Department of Labor issued a Certification of Eligibility to Apply for Worker Adjustment Assistance on October 10, 2012, applicable to workers of Welded Tube—Berkeley, including on-site leased workers from Snelling and Aerotek, Huger, South Carolina. The workers are engaged in activities related to the production of steel pipe. The notice was published in the Federal Register on October 29, 2012 (77 FR 65583).

At the request of South Carolina State, the Department reviewed the certification for workers of the subject firm. New information from the company shows that workers leased from Express Personnel Services were employed on-site at the Huger, South Carolina location of Welded Tube—Berkeley. The Department has determined that these workers were sufficiently under the control of Welded Tube—Berkeley to be considered leased workers.

The intent of the Department's certification is to include all workers of the subject firm who were adversely affected by increased customer imports of steel pipe.

Based on these findings, the Department is amending this certification to include workers leased from Express Personnel Services working on-site at the Huger, South Carolina location of the subject firm.

The amended notice applicable to TA-W-81,905 is hereby issued as follows:

All workers from Welded Tube—Berkeley, including on-site leased workers from Snelling, Aerotek and Express Personnel, Huger, South Carolina, who became totally or partially separated from employment on or after August 20, 2011, through October 10, 2014, and all workers in the group threatened with total or partial separation from employment on date of certification through two years from the date of certification, are eligible to apply for adjustment assistance under Chapter 2 of Title II of the Trade Act of 1974, as amended.

Signed at Washington, DC, this 29th day of November 2012.
Elliott S. Kushner,
Certifying Officer, Office of Trade Adjustment Assistance.

[FR Doc. 2012-30574 Filed 12-19-12; 8:45 am]

BILLING CODE 4510-FN-P